DEPARTMENT OF THE INTERIOR

Bureau of Indian Affairs

[256A2100DD/AAKC001030/A0A501010.000000]

Receipt of Request for Authorization To Re-Petition for Federal Acknowledgment as an American Indian Tribe

AGENCY: Bureau of Indian Affairs, Interior.

ACTION: Notice.

SUMMARY: The Department of the Interior (Department) announces that the group known as the Miami Nation of Indians of the State of Indiana, Inc., has submitted a request for authorization to re-petition for Federal acknowledgment as an American Indian Tribe to the Office of Federal Acknowledgment (OFA). The Department invites public comment and evidence concerning the request.

DATES: Comments and evidence must be postmarked by December 23, 2025.

ADDRESSES: The narrative portion of the re-petition request, submitted by Miami Nation of Indians of the State of Indiana, Inc., (with any redactions in accordance with 25 CFR 83.50(b)), is available at the OFA website: www.bia.gov/as-ia/ofa. Comments and evidence may be submitted to: Department of the Interior, Office of the Assistant Secretary-Indian Affairs, Attention: Office of Federal Acknowledgment, Mail Stop 4071 MIB, 1849 C Street NW, Washington, DC 20240, or by email to: Ofa_Info@bia.gov.

FOR FURTHER INFORMATION CONTACT: Ms. Nikki Bass, OFA Director, Office of the Assistant Secretary-Indian Affairs, Department of the Interior, by phone: (202) 513-7650; or by email: Ofa_Info@bia.gov.

SUPPLEMENTARY INFORMATION: On March 21, 2025, the Department revised the Federal acknowledgment regulations in 25 CFR part 83 to establish a conditional and time-limited opportunity for petitioners denied Federal acknowledgment to request authorization to re-petition.

On June 5, 2025, OFA received a request for authorization to re-petition from Miami Nation of Indians of the State of Indiana, Inc., (MNI), in accordance with 25 CFR 83.50. This group has been assigned Petition Number R001. The contact information for MNI is Brian Buchanan, P.O. Box 41, Peru, Indiana 46970.

Under 25 CFR 83.51(b)(1), OFA publishes on its website the following:

i. The narrative portion of the request for authorization to re-petition, as submitted by the petitioner (with any redactions appropriate under 25 CFR 83.50(b));

ii. The name, location, and mailing address of the petitioner and other information to identify the entity;

iii. The date of receipt;

iv. The opportunity for individuals and entities to submit comments and evidence supporting or opposing the petitioner's request for acknowledgment within 120 days of this notice of the request; and

v. The opportunity for individuals and entities to request to be kept informed of general actions regarding the petitioner.

Authority: The Department publishes this notice and request for comment in the exercise of authority delegated by the Secretary of the Interior to the Assistant Secretary-Indian Affairs by Department Manual part 209, chapter 8.

Scott Davis,
Senior Advisor to the Secretary of the Interior, Exercising the delegated authority of the Assistant Secretary for Indian Affairs.

[FR Doc. 2025-16220 Filed 8-22-25; 8:45 am]

BILLING CODE 4337-15-P